SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: September 1-30, 2021.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries May be sent to the above address.

SUPPLEMENTARY INFORMATION: This notice lists the projects, described below, receiving approval for the consumptive use of water pursuant to the Commission's approval by rule process set forth in 18 CFR 806.22(e) and 18 CFR 806.22(f) for the time period specified above:

Water Source Approval—Issued Under 18 CFR 806.22(f)

1. Chesapeake Appalachia, L.L.C; Pad ID: Jag; ABR-201109002.R2; Franklin Township, Bradford County, Pa.; Consumptive Use of Up to 7.5000 mgd; Approval Date: September 20, 2021.

2. Chesapeake Appalachia, L.L.C; Pad ID: LKM; ABR-201109014.R2; Litchfield Township, Bradford County, Pa.; Consumptive Use of Up to 7.5000 mgd; Approval Date: September 20, 2021.

3. Chesapeake Appalachia, L.L.C; Pad ID: McGroarty; ABR-201109012.R2; Albany Township, Bradford County, Pa.; Consumptive Use of Up to 7.5000 mgd; Approval Date: September 20, 2021.

4. SWN Production Company, LLC; Pad ID: Bernstein Pad; ABR-201107052.R2; Clifford Township, Susquehanna County, Pa.; Consumptive Use of Up to 4.9990 mgd; Approval Date: September 20, 2021.

5. EXCO Resources (PA) LLC; Pad ID: Cadwalader Pad; ABR-201103039.R2; Cogan House Township, Lycoming County, Pa.; Consumptive Use of Up to 8.0000 mgd; Approval Date: September 23, 2021.

6. EXCO Resources (PA) LLC; Pad ID: Arthur Pad; ABR-201103018.R2; Franklin Township, Lycoming County, Pa.; Consumptive Use of Up to 8.0000 mgd; Approval Date: September 23, 2021.

7. XTO Energy, Inc.; Pad ID: PA Tract Unit G; ABR-201109018.R2; Chapman Township, Clinton County, Pa.; Consumptive Use of Up to 4.0000 mgd; Approval Date: September 23, 2021.

8. Repsol Oil & Gas (USA), LLC; Pad ID: CAMP COMFORT (07 185); ABR-201106025.R2; Middletown Township, Susquehanna County, Pa.; Consumptive Use of Up to 6.0000 mgd; Approval Date: September 23, 2021.

9. Repsol Oil & Gas (USA), LLC; Pad ID: COOLEY (05 004) P; ABR-201007099.R2; Orwell Township, Bradford County, Pa.; Consumptive Use of Up to 6.0000 mgd; Approval Date: September 23, 2021.

10. Repsol Oil & Gas (USA), LLC; Pad ID: WALTERS (05 001) J; ABR-201007096.R2; Herrick Township, Bradford County, Pa.; Consumptive Use of Up to 6.0000 mgd; Approval Date: September 23, 2021.

11. Rockdale Marcellus, LLC; Pad ID: Sawyer 376; ABR-201007061.R2; Union Township, Tioga County; Pa.; Consumptive Use of Up to 4.9900 mgd; Approval Date: September 23, 2021.

12. ARD Operating, LLC; Pad ID: COP Tr 289 Pad D; ABR-201008030.R2; McHenry Township, Tioga County; Pa.; Consumptive Use of Up to 4.0000 mgd; Approval Date: September 23, 2021.

13. Chief Oil & Gas, LLC; Pad ID: BAUMUNK NORTH UNIT PAD; ABR-202109001; Fox Township, Sullivan County, Pa.; Consumptive Use of Up to 2.5000 mgd; Approval Date: September 23, 2021.

14. Chief Oil & Gas, LLC; Pad ID: Yonkin Drilling Pad #1 ABR-201109020.R2; Cherry Township, Sullivan County, Pa.; Consumptive Use of Up to 2.0000 mgd; Approval Date: September 26, 2021.

15. SWN Production Company, LLC; Pad ID: Cramer Pad; ABR-201108007.R2; New Milford Township, Susquehanna County, Pa.; Consumptive Use of Up to 4.9990 mgd; Approval Date: September 26, 2021.

16. SWN Production Company, LLC; Pad ID: Folger Pad; ABR-201108022.R2; New Milford Township, Susquehanna County, Pa.; Consumptive Use of Up to 4.9990 mgd; Approval Date: September 26, 2021.

17. ARD Operating, LLC; Pad ID: Elbow Pad A; ABR-201008055.R2; Cogan House Township, Lycoming County; Pa.; Consumptive Use of Up to 4.0000 mgd; Approval Date: September 26, 2021.

18. ARD Operating, LLC; Pad ID: COP Tract 356 Pad G; ABR-201108017.R2; Cummings Township, Lycoming County; Pa.; Consumptive Use of Up to 4.0000 mgd; Approval Date: September 26, 2021.

19. Rockdale Marcellus, LLC; Pad ID: Foti 721; ABR-201007118.R2; McNett Township, Lycoming County; Pa.; Consumptive Use of Up to 4.9900 mgd; Approval Date: September 26, 2021.

20. ARD Operating, LLC; Pad ID: COP Tr 285 Pad H; ABR-201008018.R2; Chapman Township, Clinton County; Pa.; Consumptive Use of Up to 4.0000 mgd; Approval Date: September 26, 2021.

21. Chief Oil & Gas, LLC; Pad ID: Kerr B Drilling Pad #1 ABR-201109031.R2; Lathrop Township, Sullivan County, Pa.; Consumptive Use of Up to 2.0000 mgd; Approval Date: September 28, 2021.

22. Repsol Oil & Gas (USA), LLC; Pad ID: BENNETT (05 164) R; ABR-201107049.R2; Pike Township, Susquehanna County, Pa.; Consumptive Use of Up to 6.0000 mgd; Approval Date: September 23, 2021.

23. Rockdale Marcellus, LLC; Pad ID: Taylor 718; ABR-201007016.R2; Liberty Township, Tioga County; Pa.; Consumptive Use of Up to 4.9900 mgd; Approval Date: September 28, 2021.

24. BKV Operating, LLC; Pad ID: Bush Pad; ABR-201109028.R2; Bridgewater and Forest Lake Townships, Susquehanna County, Pa.; Consumptive Use of Up to 5.0000 mgd; Approval Date: September 28, 2021.

25. Blackhill Energy LLC; Pad ID: REITER 1H Pad; ABR-201008048.R2; Ridgebury Township, Bradford County, Pa.; Consumptive Use of Up to 4.9900 mgd; Approval Date: September 28, 2021.

26. SWN Production Company, LLC; Pad ID: Clark Pad; ABR-201107043.R2; Herrick and Orwell Townships, Bradford County, Pa.; Consumptive Use of Up to 4.9990 mgd; Approval Date: September 28, 2021.

27. Chesapeake Appalachia, L.L.C; Pad ID: Circle H; ABR-201109033.R2; Wilmot Township, Bradford County, Pa.; Consumptive Use of Up to 7.5000 mgd; Approval Date: September 30, 2021.

28. Chesapeake Appalachia, L.L.C; Pad ID: Smurkoski; ABR-201109032.R2; Meshoppen Township, Wyoming County, Pa.; Consumptive Use of Up to 7.5000 mgd; Approval Date: September 30, 2021.

29. Chesapeake Appalachia, L.L.C; Pad ID: Stone; ABR-201109035.R2; Tuscarora Township, Bradford County, Pa.; Consumptive Use of Up to 7.5000 mgd; Approval Date: September 30, 2021.

30. Seneca Resources Company, LLC; Pad ID: C09-Q; ABR-202109002; Shippen Township, Cameron County, Pa.; Consumptive Use of Up to 4.0000 mgd; Approval Date: September 30, 2021.

31. Seneca Resources Company, LLC; Pad ID: DCNR Tract 595 Pad F; ABR-201008044.R2; Bloss Township, Tioga County, Pa.; Consumptive Use of Up to 4.0000 mgd; Approval Date: September 30, 2021.

32. Blackhill Energy LLC; Pad ID: STAHL 1H; ABR-201107021.R2; Chapman Township, Clinton County, Pa.; Consumptive Use of Up to 4.0000 mgd; Approval Date: September 30, 2021.

33. Repsol Oil & Gas USA, LLC; Pad ID: NOBLE (03 029) S; ABR-201007011.R2; Wells Township, Bradford County, Pa.; Consumptive Use of Up to 6.0000 mgd; Approval Date: September 30, 2021.

34. Repsol Oil & Gas USA, LLC; Pad ID: THORP (03 049) D; ABR-201007082.R2; Wells Township, Bradford County, Pa.; Consumptive Use of Up to 6.0000 mgd; Approval Date: September 30, 2021.

Authority: Pub. L. 91-575, 84 Stat. 1509 et seq., 18 CFR parts 806, 807, and 808.

Dated: October 18, 2021.
Jason E. Oyler,
General Counsel and Secretary to the Commission.

[FR Doc. 2021-22978 Filed 10-20-21; 8:45 am]

BILLING CODE 7040-01-P